DEPARTMENT OF THE INTERIOR

Bureau of Land Management

[AK-012-08-1220-DA-WSDL]

Notice of Intent To Prepare an Amendment to the East Alaska Resource Management Plan (EARMP) for the Delta River Special Recreation Management Area (SRMA)

AGENCY: Bureau of Land Management; Glennallen Field Office.

ACTION: Notice of Intent.

SUMMARY: The Bureau of Land Management (BLM), Glennallen Field Office, Alaska, intends to prepare a land use plan amendment for the East Alaska Resource Management Plan (EARMP). This amendment will address recreation management decisions in the Delta River Special Recreation Management Area (SRMA), as defined in the EARMP. The Delta River SRMA includes all portions of the Delta National Wild and Scenic River corridor managed by the BLM. This planning activity encompasses approximately 45,000 acres of unencumbered BLM-administered public lands. The plan amendment will fulfill the needs and obligations set forth by the National Environmental Policy Act (NEPA), the Federal Land Policy and Management Act (FLPMA), the Wild and Scenic Rivers Act, and BLM management policies. The BLM will work collaboratively with interested parties to identify the management decisions best suited to local, regional, and national needs and concerns. The public scoping process will identify planning issues and develop planning criteria.

DATES: A 30-day public comment period will be announced through local news media outlets, mailings to interested individuals, and on the BLM-Alaska Web site at http://www.blm.gov/ak/st/en/fo/gdo.html. Comments may be submitted in writing to the address listed below. Associated planning documents can be viewed on the BLM-Alaska Web site, or they can be requested in a paper or electronic copy format by contacting the Glennallen Field Office at the address and phone number listed below.

ADDRESSES: Written comments should be sent to: Delta River Special Recreation Management Area Planning, Bureau of Land Management, Glennallen Field Office, P.O. Box 147, Glennallen, AK 99588; phone 907-822-3217, Fax 907-822-3120. Individual respondents may request confidentiality. If you wish to withhold your name and/or address from public review or disclosure under the Freedom of Information Act, you must state this prominently at the beginning of your written comment. The BLM will honor such requests to the extent allowed by law. All submissions from organizations or businesses, and from individuals identifying themselves as representatives or officials of organizations or businesses, will be available for public inspection in their entirety.

FOR FURTHER INFORMATION CONTACT: For further information and/or to have your name added to our mailing list, contact Heath Emmons, phone 907-822-3217 or hemmons@blm.gov.

SUPPLEMENTARY INFORMATION: On September 7, 2007, the BLM published a Record of Decision (ROD) for the East Alaska Resource Management Plan/Environmental Impact Statement. Among other decisions, this document created the Delta River SRMA, which encompasses all BLM-managed portions of the Delta National Wild and Scenic River corridor. Subsequent to the development of the EARMP, the BLM developed new recreation planning requirements (see BLM Manual H-1601-1 Land Use Planning Handbook) that were not included in the EARMP. The new planning policy requires recreation-related land use allocations and development of recreation management zones (RMZ). Although the EARMP did identify RMZs within the Delta River SRMA, some boundaries require minor changes. For public lands within the Delta River SRMA, the proposed land use plan amendment will:

• Identify the corresponding recreation niche within each RMZ to be served,

• develop explicit recreation management objectives for the specific recreation opportunities to be produced and the outcomes to be attained (activities, experiences and benefits),

• prescribe recreation-setting character conditions required to produce recreation opportunities and facilitate the attainment of both recreation experiences and beneficial outcomes, as targeted above, and

• briefly describe an activity planning framework that addresses recreation management, marketing, monitoring, and administrative support actions (e.g., visitor services, permits and fees, recreation concessions, and appropriate use restrictions) necessary to achieve explicitly stated recreation management objectives and setting prescriptions.

Preliminary issues and management concerns have been identified by BLM personnel, other agencies, and in focus group meetings with stakeholder groups. The major issue themes that will be addressed in the planning effort include: managing human uses and activities to preserve prescribed recreation-setting character conditions, protecting and conserving lands having special or unique features and resource values, and managing and conserving natural resources of the Delta River. The public is encouraged to help identify other questions, concerns, and issues during the scoping phase. An interdisciplinary team of specialists with expertise in outdoor recreation, minerals and geology, forestry, archaeology, paleontology, wildlife and fisheries, lands and realty, hydrology, soils, vegetation, sociology and economics will develop the plan with full consideration of the variety of resource issues and concerns identified. The BLM has identified the following preliminary planning criteria to guide the planning process:

1. The plan amendment will be consistent with the standards and guidance set forth in the FLPMA, the NEPA, the Council on Environmental Quality, the National Historic Preservation Act, the Wild and Scenic Rivers Act, the Migratory Bird Treaty Act, the Alaska National Interest Lands Conservation Act (ANILCA), and other Federal laws, regulations, and policies as required;

2. the plan amendment will conform to Section 810 of ANILCA, Subsistence and Land Use Decisions;

3. the plan amendment will recognize the existence of valid existing rights;

4. the lands covered in the plan amendment will be public lands managed by the BLM and decisions will be made only on lands managed by the BLM;

5. the BLM will work cooperatively with the State and Federal agencies, Native corporations, Tribes, and Municipal governments. Agencies (including federally recognized tribal governments) with jurisdiction by law or special expertise will be consulted during the planning process;

6. public participation by interested groups and individuals will be encouraged throughout the planning process;

7. wildlife habitat management will be consistent with Alaska Department of Fish and Game (ADF&G) objectives and/or the Federal Subsistence Board requirements and mandates;

8. off-highway vehicles designations for all public lands within the planning area will be completed according to the regulations found in 43 CFR part 8342;

9. the BLM will make all possible attempts to ensure that its management prescriptions and planning actions complement other planning jurisdictions, within the boundaries described by law and policy;

10. the BLM will, to the extent possible, use current scientific information, research, new technologies and the results of resource assessments, monitoring and coordination to determine appropriate management strategies that will enhance resource values;

11. implementation plans prepared by the BLM will conform to the Bureau's H-1601-1 Land Use Planning Handbook, Appendix C, Program-Specific and Resource-Specific Decision Guidance and supplemental program guidance manual for Recreation and Visitor Services; and

12. the plan amendment will supersede only sections of the existing EARMP that relate to the Delta River SRMA. Additional planning criteria may be identified during the comment period.

Dated: April 3, 2008.
Vincent Galterio,
Acting State Director.

[FR Doc. E8-7587 Filed 4-9-08; 8:45 am]

BILLING CODE 4310-JA-P